DEPARTMENT OF THE INTERIOR

National Park Service

[N6626; NPS-WASO-NAGPRA-NPS0041357; PPWOCRADN0-PCU00RP14.R50000]

Notice of Intended Disposition: U.S. Department of the Interior, National Park Service, Pu'uhonua o Hōnaunau National Historical Park, Hōnaunau, HI

AGENCY: National Park Service, Interior.

ACTION: Notice.

SUMMARY: In accordance with the Native American Graves Protection and Repatriation Act (NAGPRA), the U.S. Department of the Interior, National Park Service, Pu'uhonua o Hōnaunau National Historical Park (PUHO) intends to carry out the disposition of human remains removed from Federal or Tribal lands to the lineal descendants, Indian Tribe, or Native Hawaiian organization with priority for disposition in this notice.

DATES: Disposition of the human remains in this notice may occur on or after January 15, 2026. If no claim for disposition is received by December 16, 2026, the human remains in this notice will become unclaimed human remains.

ADDRESSES: Send written claims for disposition of the human remains in this notice to Paul Scolari, Pu'uhonua o Hōnaunau National Historical Park, P.O. Box 129, Honaunau, HI 96726, email paul_scolari@nps.gov.

SUPPLEMENTARY INFORMATION: This notice is published as part of the National Park Service's administrative responsibilities under NAGPRA. The determinations in this notice are the sole responsibility of the PUHO, and additional information on the human remains or cultural items in this notice, including the results of consultation, can be found in the related records.

Abstract of Information Available

Based on the information available, human remains representing one individual have been reasonably identified. No associated funerary objects are present. The remains were identified during damage assessments conducted at PUHO after a high surf event affected west facing shores of Hawai'i Island lasting Friday January 17th through Sunday January 19th, 2025. During these assessments a single human bone fragment was identified above the high tide line among surf deposited sand and cobble rubble at Keone'ele Cove, Hōnaunau ahupua'a, Hawai'i County, HI.

Determinations

PUHO has determined that:

• The human remains described in this notice represent the physical remains of one individual of Native American ancestry.

• The following Native Hawaiian organizations have priority for disposition of the human remains described in this notice: Ah Tou 'Ohana; Akana 'Ohana (Namakaeha); Casuga 'Ohana (Kalohi); Freitas 'Ohana (Kekuewa, Moanauli); Galieto 'Ohana (Kelepolo); Hua 'Ohana; Kauhaihao 'Ohana (Kelekolio); Keakealani 'Ohana (Maunu); Kekuewa 'Ohana (Moanauli); Lindo 'Ohana, Medeiros 'Ohana (Kalalahua); Ramos 'Ohana (Kahikina); Na Hoa Aloha o Ka Pu'uhonua o Hōnaunau; Office of Hawaiian Affairs; and Protect Keopuka Ohana.

Claims for Disposition

Written claims for disposition of the human remains in this notice must be sent to the appropriate official identified in this notice under ADDRESSES. If no claim for disposition is received by December 16, 2026, the human remains in this notice will become unclaimed human remains. Claims for disposition may be submitted by:

1. Any lineal descendant, Indian Tribe, or Native Hawaiian organization identified in this notice.

2. Any lineal descendant, Indian Tribe, or Native Hawaiian organization not identified in this notice who shows that they have priority for disposition.

Disposition of the human remains in this notice may occur on or after January 15, 2026. If competing claims for disposition are received, PUHO must determine the most appropriate claimant prior to disposition. Claims for joint disposition of the human remains are considered a single claim and not competing claims. PUHO is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: November 19, 2025.
Melanie O'Brien,
Manager, National NAGPRA Program.

[FR Doc. 2025-22901 Filed 12-15-25; 8:45 am]

BILLING CODE 4312-52-P